DEPARTMENT OF JUSTICE

Immigration and Naturalization Service

8 CFR Part 244

INS No. 1972-99

RIN 1115-AF01

Temporary Protected Status: Amendments to the Requirements for Employment Authorization Fee, and Other Technical Amendments

AGENCY: Immigration and Naturalization Service, Justice.

ACTION: Final rule.

SUMMARY: This rule adopts without change an interim rule published by the Immigration and Naturalization Service (Service) in the Federal Register on February 1, 1999. The interim rule amended the Service regulations by removing outdated language requiring that only certain El Salvadorans must pay a fee for Temporary Protected Status (TPS)-related employment authorization documents (EADs). Removing the language was necessary to make Service regulations conform to the requirement that instructs all applicants for TPS who desire employment to pay the fee.

DATES: This final rule is effective January 29, 2001.

FOR FURTHER INFORMATION CONTACT: Michael Valverde, Adjudications Officer, Office of Adjudications, Room 3040, 425 I Street NW., Washington, DC 20536, telephone: (202) 514-4754.

SUPPLEMENTARY INFORMATION:

What Did the February 1, 1999, Interim Rule Change?

On February 1, 1999, the Service published an interim rule in the Federal Register at 64 FR 4780. The interim rule:

(1) Amended § 244.6 to remove outdated language requiring that only certain El Salvadorans must pay a fee for TPS-related applications for EADs. Section 244.6 previously stated that “* * * the fee for Form I-765 will be charged only for those aliens who are nationals of El Salvador, and are between the ages of 14 and 65 (inclusive), and are requesting work authorization.” This language pertained to the statutory designation of El Salvador for TPS (under section 303 of the Immigration Act of 1990) that expired June 30, 1992.

The El Salvador specific fee language was superseded by the fee requirements contained on the instructions to the Form I-765, Application for Employment Authorization. The Form I-765 instructs applicants filing for initial TPS to pay the fee if they wish to receive employment authorization. The Service generally charges fees for persons who apply for TPS on Form I-821, Application for Temporary Protected Status, and who want employment authorization regardless of nationality. Applicants also have the option of requesting a fee waiver for one or both of these fees in accordance with § 244.20. The Service does not charge a fee when a TPS applicant files the Form I-765 to comply with Service data collection purposes only and does not wish to receive employment authorization.

(2) Amended 8 CFR part 244 to remove the word “district” when used in a reference to a “district director.” This change provides the Service with the flexibility to determine where an applicant should submit an application for TPS and which Service personnel will adjudicate the application.

(3) Amended § 244.12 to allow the Service to issue EADs which are valid for a period of up to 18 months to be commensurate with the entire designation period of TPS. Under section 244(b)(2) of the Act, the Attorney General can authorize an initial designation period for TPS from 6 to 18 months. Previously, § 244.12 limited the validity period of TPS-related EADs to 12 months.

Public Comment

The comment period expired April 2, 1999. The Service did not receive any comments regarding the promulgation of the interim rule. Since there were no comments relating to the interim rule, the Service is adopting the interim rule as a final rule without any changes.

Regulatory Flexibility Act

In accordance with 5 U.S.C. 605(b), the Commissioner certifies that this final rule does not have a significant economic impact on a substantial number of small entities. The factual basis for this certification is that this rule does not make any changes to the regulations. It merely adopts the interim rule, published on February 1, 1999, as final without change.

Unfunded Mandates Reform Act of 1995

This rule will not result in the expenditure by State, local, or tribal governments, in the aggregate, or by the private sector, of $100 million or more in any 1 year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

This rule is not considered by the Department of Justice, Immigration and Naturalization Service, to be a “significant regulatory action” under Executive Order 12866, section 3(f), Regulatory Planning and Review, and the Office of Management and Budget has waived its review process under section 6(a)(3)(A).

Executive Order 13132

This regulation will not have substantial direct effects on the States, on the relationship between the national government and the States, or on the distribution of power and responsibilities among the various levels of government. Therefore, in accordance with section 6 of Executive Order 13132, the Immigration and Naturalization Service has determined that this rule does not have sufficient federalism implications to warrant the preparation of a federalism summary impact statement.

Executive Order 12988 Civil Justice Reform

This rule meets the applicable standards set forth in sections 3(a) and 3(b)(2) of Executive Order 12988.

List of Subjects in 8 CFR Part 244

Aliens, Reporting and recordkeeping requirements.

Accordingly, the interim rule amending 8 CFR part 244, which was published in the Federal Register at 64 FR 4780 on February 1, 1999, is adopted as a final rule without change.

Dated: December 20, 2000.
Mary Ann Wyrsch,
Acting Commissioner, Immigration and Naturalization Service.

[FR Doc. 00-33046 Filed 12-27-00; 8:45 am]

BILLING CODE 4410-10-M